DEPARTMENT OF THE INTERIOR

Committee Establishment: United States Geological Survey—Climate Change Science Program Committee for Synthesis and Assessment Product 1.2: Past Climate Variability and Change in the Arctic and at High Latitudes

AGENCY: U.S. Geological Survey, Interior.

ACTION: Establishment of a Federal Advisory Committee

SUMMARY: This notice is published in accordance with Section 9(a) of the Federal Advisory Committee Act of 1972 (Pub. L. 92-463). Following consultation with the General Services Administration, notice is hereby given that the Secretary of the Interior has established the U.S. Geological Survey—Climate Change Science Program Committee for Synthesis and Assessment Product 1.2: Past Climate Variability and Change in the Arctic and at High Latitudes.

The Climate Change Science Program (CCSP), a consortium of Federal agencies performing climate science, has established a synthesis and assessment (S&A) program as a part of its Strategic Plan. There are 21 S&A products to be administered by 13 Federal agencies over a 5-year period. The U.S. Geological Survey (USGS), a participant in the CCSP, is responsible for three S&A products. S&A product 1.2: Past Climate Variability and Change in the Arctic and at High Latitudes is the subject of this proposed Federal Advisory Committee.

The primary function of the Committee is to synthesize and assess the state of knowledge on past climate variability at high latitudes and communicate this information to the USGS. Committee members will meet and discuss issues relating to the study design, research methodology, data sources and quality, and study findings. The Committee will draft a report that will serve as the CCSP definitive document on current knowledge pertaining to the topic of past climate variability at high latitudes. Membership will consist of non-Federal scientists who are recognized as experts in the climate science community.

FOR FURTHER INFORMATION CONTACT: Joan J. Fitzpatrick, U.S. Geological Survey, Box 25046, Denver Federal Center, MS-980, Denver, Colorado 80225-0046 (Phone Number: 303-236-7881).

Dated: May 1, 2007.
Dirk Kempthorne,
Secretary of the Interior.

[FR Doc. 07-2326 Filed 5-10-07; 8:45 am]

BILLING CODE 4311-AM-M